OVERSEAS PRIVATE INVESTMENT CORPORATION

[DFC-001; DFC-002; DFC-003; DFC-004, DFC-005, DFC-006, DFC-007; DFC-009; DFC-010; DFC-012]

Submission for OMB Review; Comments Request

AGENCY: US International Development Finance Corporation (DFC), Overseas Private Investment Corporation (OPIC).

ACTION: Notice of information collection; request for comment.

SUMMARY: Under the provisions of the Paperwork Reduction Act, agencies are required to publish a Notice in the Federal Register notifying the public that the agency is creating a new information collection for OMB review and approval and requests public review and comment on the submission. The agency received no comments to DFC-002, DFC-005, or DFC-012 in response to the sixty (60) day notice. The agency did receive comments to DFC-001, DFC-003, DFC-004, DFC-006, DFC-007, DFC-009, and DFC-010. The purpose of this notice is to allow an additional thirty (30) days for public comments to be submitted. Comments are being solicited on the need for the information; the accuracy of the burden estimate; the quality, practical utility, and clarity of the information to be collected; and ways to minimize the reporting burden, including automated collection techniques and uses of other forms of technology.

DATES: DFC intends to begin use of this collection on October 1, 2019. Comments must be received by July 15, 2019.

ADDRESSES: Comments and requests for copies of the subject information collection may be sent by any of the following methods:

• Mail: Catherine F.I. Andrade, Agency Submitting Officer, Overseas Private Investment Corporation, 1100 New York Avenue NW, Washington, DC 20527.

• Email: fedreg@opic.gov.

Instructions: All submissions received must include the agency name and agency form number for the referenced information collection(s). Electronic submissions must include the full agency form number(s) in the subject line to ensure proper routing. Please note that all written comments received in response to this notice will be considered public records.

FOR FURTHER INFORMATION CONTACT: Agency Submitting Officer: Catherine F.I. Andrade, (202) 336-8768.

SUPPLEMENTARY INFORMATION: The Better Utilization of Investments Leading to Development (BUILD) Act of 2018, Public Law 115-254 creates the U.S. International Development Finance Corporation (DFC) by bringing together the Overseas Private Investment Corporation (OPIC) and the Development Credit Authority (DCA) office of the U.S. Agency for International Development (USAID). Section 1465(a) of the Act tasks OPIC staff with assisting DFC in the transition. Section 1466(a)-(b) provides that all completed administrative actions and all pending proceedings shall continue through the transition to the DFC. Accordingly, OPIC is issuing this Paperwork Reduction Act notice and request for comments on behalf of the DFC. The agency received comments to DFC-001, DFC-003, DFC-004, DFC-006, DFC-007, DFC-009, and DFC-010, in response to the sixty (60) day notice published in Federal Register volume 84 page 10843 on March 22, 2019. The agency amended the instructions to DFC-001 to make it clear that an explanation of the project's social-developmental goals was a requirement to submission and that supporting documentation for the application is an important requirement. Language was added to DFC-003 requiring the applicant to demonstrate how it will monitor a project to avoid harm to project-affected communities, consult with project-affected communities, and provide access to remedy for project-affected communities in the case of negative impacts. In DFC-004, the agency added and amended language on accountability practices. No changes were made to the remaining collections.

Summary Forms Under Review

Title of Collection: Application for Debt Financing.

Type of Review: New information collection.

Agency Form Number: DFC-001.

OMB Form Number: Not assigned, new information collection.

Frequency: Once per investor per project.

Affected Public: Business or other for-profit; not-for-profit institutions; individuals.

Total Estimated Number of Annual Number of Respondents: 220.

Estimated Time per Respondent: 1.5 hours.

Total Estimated Number of Annual Burden Hours: 330 hours.

Abstract: The Application for Debt Financing will be the principal document used by the agency to determine the investor's and the project's eligibility for debt financing and will collect information for financial underwriting analysis.

Title of Collection: Registration for Political Risk Insurance.

Type of Review: New information collection.

Agency Form Number: DFC-002.

OMB Form Number: Not assigned, new information collection.

Frequency: Once per investor per project.

Affected Public: Business or other for-profit; not-for-profit institutions; individuals.

Total Estimated Number of Annual Number of Respondents: 175.

Estimated Time per Respondent: 0.5 hours.

Total Estimated Number of Annual Burden Hours: 87.5 hours.

Abstract: The Registration for Political Risk Insurance will be used by the agency to screen investors and projects for political risk insurance. Investors will be asked to register their intention to apply for insurance prior to making an irrevocable investment. DFC-002 will serve as proof of this intention and any investments made prior to the submission of a DFC-002 may be ineligible for political risk insurance from the agency.

Title of Collection: Application for Political Risk Insurance.

Type of Review: New information collection.

Agency Form Number: DFC-003.

OMB Form Number: Not assigned, new information collection.

Frequency: Once per investor per project.

Affected Public: Business or other for-profit; not-for-profit institutions; individuals.

Total Estimated Number of Annual Number of Respondents: 45.

Estimated Time per Respondent: 3 hours.

Total Estimated Number of Annual Burden Hours: 135 hours.

Abstract: The Application for Political Risk Insurance will be the principal document used by the agency to determine the investor's and the project's eligibility for political risk insurance and will collect information for underwriting analysis.

Title of Collection: Investment Funds Application.

Type of Review: New information collection.

Agency Form Number: DFC-004.

OMB Form Number: Not assigned, new information collection.

Frequency: Once per investor per project.

Affected Public: Business or other for-profit; not-for-profit institutions; individuals.

Total Estimated Number of Annual Number of Respondents: 150.

Estimated Time per Respondent: 1 hours.

Total Estimated Number of Annual Burden Hours: 150 hours.

Abstract: The Investment Funds Application will be the principal document used by the agency to determine the investor's and the project's eligibility for funding and will collect information for underwriting analysis.

Title of Collection: Personal Financial Statement.

Type of Review: New information collection.

Agency Form Number: DFC-005.

OMB Form Number: Not assigned, new information collection.

Frequency: Once per investor per project.

Affected Public: Individuals.

Total Estimated Number of Annual Number of Respondents: 75.

Estimated Time per Respondent: 1 hours.

Total Estimated Number of Annual Burden Hours: 75 hours.

Abstract: The Personal Financial Statement will be supporting documentation to the agency's Application for Debt Financing (DFC-001). The information provided will be used by the agency to determine if individuals who are providing equity investment in or credit support to a project have sufficient financial wherewithal to meet their expected obligations under the proposed terms of the agency's financing.

Title of Collection: Personal Identification Form.

Type of Review: New information collection.

Agency Form Number: DFC-006.

OMB Form Number: Not assigned, new information collection.

Frequency: Once per party per project.

Affected Public: Business or other for-profit; not-for-profit institutions; individuals.

Total Estimated Number of Annual Number of Respondents: 500.

Estimated Time per Respondent: 1 hours.

Total Estimated Number of Annual Burden Hours: 500 hours.

Abstract: The Personal Identification Form will used by the agency in its Character Risk Due Diligence procedures, which are similar to a commercial bank's Know Your Customer procedures. The agency will perform a robust due diligence review on each party that has a significant relationship to the projects the agency supports and this collection is one aspect of that review.

Title of Collection: DFC Impact Assessment Questionnaire.

Type of Review: New information collection.

Agency Form Number: DFC-007.

OMB Form Number: Not assigned, new information collection.

Frequency: Once per investor per project.

Affected Public: Business or other for-profit; not-for-profit institutions; individuals.

Total Estimated Number of Annual Number of Respondents: 230.

Estimated Time per Respondent: 2.8 hours.

Total Estimated Number of Annual Burden Hours: 644 hours.

Abstract: The DFC Impact Assessment Questionnaire is the principal document used by the agency to initiate the assessment of the project's development impact, as well as the project's ability to comply with environmental and social policies, including labor and human rights, as consistent with the agency's authorizing legislation.

Title of Collection: Aligned Capital Investor Screener.

Type of Review: New information collection.

Agency Form Number: DFC-009.

OMB Form Number: Not assigned, new information collection.

Frequency: Once per investor.

Affected Public: Business or other for-profit; not-for-profit institutions; individuals.

Total Estimated Number of Annual Number of Respondents: 50.

Estimated Time per Respondent: 0.33 hours.

Total Estimated Number of Annual Burden Hours: 16.5 hours.

Abstract: The Aligned Capital Investor Screener is a document used to screen potential investors interested in participating in the agency's Aligned Capital Program and, if they qualify, to place their information into the program. The Aligned Capital Program is designed to align development finance with other capital, including philanthropic, socially responsible and impact investment, to enable effective deployment of that capital towards projects in the countries and sectors in which the agency works. In order to participate, investors must meet the specified criteria.

Title of Collection: Aligned Capital Investee Opt-In.

Type of Review: New information collection.

Agency Form Number: DFC-010.

OMB Form Number: Not assigned, new information collection.

Frequency: Once per investor per project.

Affected Public: Business or other for-profit; not-for-profit institutions; individuals.

Total Estimated Number of Annual Number of Respondents: 75.

Estimated Time per Respondent: 0.5 hours.

Total Estimated Number of Annual Burden Hours: 37.5 hours.

Abstract: The Aligned Capital Investee Opt-In is a document used by companies seeking investments or grant funding to place their information into the agency's Aligned Capital Program. The Aligned Capital Program is designed to align development finance with other capital, including philanthropic, socially responsible and impact investment, to enable effective deployment of that capital towards projects in the countries and sectors in which the agency works.

Title of Collection: Economic Questionnaire.

Type of Review: New information collection.

Agency Form Number: DFC-012.

OMB Form Number: Not assigned, new information collection.

Frequency: Once per investor per project.

Affected Public: Business or other for-profit; not-for-profit institutions; individuals.

Total Estimated Number of Annual Number of Respondents: 100.

Estimated Time per Respondent: 1.5 hours.

Total Estimated Number of Annual Burden Hours: 150 hours.

Abstract: The Economic Questionnaire is to be used on an as needed basis to collect information about potential exports of DFC-supported projects.

Dated: June 17, 2019.
Genevieve Stubbs,
Senior Administrative Counsel, Department of Legal Affairs.

[FR Doc. 2019-13104 Filed 6-20-19; 8:45 am]

BILLING CODE 3210-01-P